DEPARTMENT OF STATE

[Public Notice 8251]

Preparations for the International Telecommunication Union World Telecommunication Development Conference (ITU WTDC 2014)

SUMMARY: This notice announces meetings of the Department of State's International Telecommunication Advisory Committee (ITAC) to review the activities of its ad hoc group for preparations for the ITU World Telecommunication Development Conference (WTDC 2014), as well as preparations for other, related meetings at the ITU.

The ITAC will meet on April 17, 2013 at 2PM EDT to review the work already performed in the ITAC-D ad hoc and the plans for preparation for related ITU meetings for the rest of this year. This meeting of the ITAC will be held at the Department of State, followed by additional meetings of the ITAC-D ad hoc of the ITAC on April 30, 2013 at 1300 Eye Street NW., Washington, DC fourth floor West Tower. Subsequent meetings of the ITAC-D and other ad hocs will be scheduled later.

Details on these ITAC-D ad hoc meetings for preparations for WTDC14 will be announced on the Department of State's email list, ITAC-D@lmlist.state.gov. Meetings of other ad hocs will be initially announced on the list: ITAC@lmlist.state.gov. Use of these lists is limited to meeting announcements and confirmations, distribution of agendas and other meeting documents such as Contributions.

People desiring further information on these preparatory meetings, including those wishing to request reasonable accommodation to attend the meeting and those who wish to participate in the ITAC or ITAC-D lists, should contact the Secretariat at both minardje@state.gov and jminard@artelinc.com.

Attendance at these meetings is open to the public as seating capacity allows. The public will have an opportunity to provide comments at these meetings. A conference bridge will be provided to those people outside the Washington Metro area who request it from the secretariat.

Dated: March 15, 2013.
Doreen McGirr,
Foreign Affairs Officer, International Communications & Information Policy, U.S. Department of State .

[FR Doc. 2013-06755 Filed 3-22-13; 8:45 am]

BILLING CODE 4710-07-P